CONSUMER PRODUCT SAFETY COMMISSION

[Docket No. CPSC-2025-0003]

Agency Information Collection Activities; Proposed Collection; Comment Request; Pool Safely Grant Program Application

AGENCY: Consumer Product Safety Commission.

ACTION: Notice of information collection; request for comment.

SUMMARY: As required by the Paperwork Reduction Act of 1995, the Consumer Product Safety Commission (CPSC or Commission) requests comments on a request for approval from the Office of Management and Budget (OMB) for a new information collection. The proposed collection is for an application by which potential grant recipients may request funding under CPSC's Pool Safely Grant Program (PSGP). The PSGP provides funds for state, local and tribal governments for education, training and enforcement of pool safety requirements intended to save lives from drowning in swimming pools and spas. Before CPSC may collect this information from the public, it must solicit public comment on this proposed collection of information and receive OMB approval. This notice describes the collection of information for which CPSC intends to seek OMB approval.

DATES: Submit comments on the collection of information by May 12, 2025.

ADDRESSES: You may submit comments, identified by Docket No. CPSC-2025-0003, within 60 days of publication of this notice by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, Consumer Product Safety Commission, 4330 East-West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2025-0003 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: Under the Paperwork Reduction Act of 1995 (44 U.S.C. 3501-3521), before an agency submits a proposed collection of information to OMB for approval, it must first publish a document in the Federal Register providing a 60-day comment period and otherwise consult with members of the public and affected agencies concerning the proposed collection of information. In this notice we provide the estimated burden associated with applications for grants from PSGP, which provides funding to eligible state, local and tribal governments for enforcement and educational programs to reduce deaths and injuries from drowning and drain entrapment incidents in swimming pools and spas.

Under the PRA, an agency must publish the following information:

• A title for the collection of information;

• A summary of the collection of information;

• A brief description of the need for the information and the proposed use of the information;

• A description of the likely respondents and proposed frequency of response to the collection of information;

• An estimate of the burden that will result from the collection of information; and

• Notice that comments may be submitted to the agency and OMB.

44 U.S.C. 3507(a)(1)(D). In accordance with this requirement, the Commission provides the following information: ¹

¹ On March 4, 2025, the Commission voted (5-0) to publish this notice.

Title: Pool Safely Grant Program Application.

OMB Number: New.

Type of Request: New information collection request.

Type of Review Requested: Regular.

Requested Expiration Date of Approval: Three years from date of approval.

Summary of the Collection of Information: The Virginia Graeme Baker Pool and Spa Safety Act (VGB Act) authorizes CPSC to grant funding for the PSGP. 15 U.S.C. 8004-8008. The PSGP provides two-year grants to eligible state, local or tribal governments to reduce deaths and injuries from drowning and drain entrapment incidents in swimming pools and spas. The grant awards can range from $50,000 to $400,000 per applicant. Prospective applicants will be able to access the grant application on Grants.gov and apply electronically through GrantSolutions. Applicants will be required to complete common forms ² used for federal grants, as well as up to six additional attachments specific to PSGP. Awards are posted to the CPSC's website and via press release.

² A common form is an approved information collection and can be used by two or more agencies, or government-wide, for the same purpose. See https://pra.digital.gov/clearance-types/.

Description of the Need for the Information and Proposed Use of the Information: The PSGP is part of CPSC's national campaign to prevent drowning and drain entrapment. Drowning is one of the leading causes of death among young children.³ The information collected through the application for PSGP grants is used to determine eligibility and to provide funding to reduce deaths and injuries from drowning and drain entrapment incidents in swimming pools and spas. Funding can be requested for enforcement and for education in accordance with 15 U.S.C. 8004(d).

³ https://www.cpsc.gov/Newsroom/News-Releases/2024/3-0-Million-Available-in-Pool-Safely-Grants-to-Help-State-Local-and-Tribal-Governments-Prevent-Drownings-and-Drain-Entrapments-Apply-Now.

Affected Public: State, Local or Tribal or U.S. Territory Government

Estimated Number of Respondents: We expect up to 20 respondents annually.

Frequency: Annual.

Total Estimated Annual Burden: To apply for the PSGP, in addition to completing common forms,⁴ an applicant would typically provide six attachments specific to the grant program.

⁴ The common forms include: SF-424A Budget Information—Non-Construction (OMB No. 4040-0006), SF-424B Assurances—Non-Construction Programs (OMB No. 4040-0007), Project Abstract Summary (OMB No. 4040-0019), SF-424 Application for Federal Assistance (OMB No. 4040-0020), and SF-LLL Disclosure of Lobbying Activities (OMB No. 4040-0013). To avoid double counting, the estimated burden for this collection does not include burden approved under these common forms.

• Attachment 1, the project narrative, provides a description of community needs and is estimated to take 20 hours to prepare, on average.

• Attachment 2, the budget narrative, presents each budget category with an explanation of each line item and is estimated to take 10 hours to prepare, on average.

• Attachment 3, the schedule, is a multi-year project schedule/timeline and is estimated to take six hours to prepare, on average.

• Attachment 4, the staffing plan, includes a narrative that describes and identifies each program staff member with the amount of time for the grant program funded work and is estimated to take six hours to prepare, on average.

• Attachment 5, legal eligibility, includes references necessary to support that the applicant meets the legal eligibility requirements of the VGB Act for swimming pools and spas and is estimated to take one hour to prepare, on average.

• Attachment 6, the indirect cost rate agreement, substantiates indirect costs that may be reimbursed as permissible administrative costs as stated in the VGB Act and is estimated to take one hour to prepare, on average.

CPSC estimates it would take the applicant approximately 44 hours to complete attachments 1-6. CPSC expects to receive 20 grant applications that utilize the attachments described, for a total burden hour estimate of 880 hours (44 hours per application × 20 applications).

Total Estimated Annual Burden Cost: CPSC estimates the compensation for the creation and compilation of attachments 1-6 is $62.92 per hour (U.S. Bureau of Labor Statistics, “Employer Costs for Employee Compensation,” September 2024, total compensation for state and local government workers: https://www.bls.gov/news.release/archives/ecec_12172024.pdf). Therefore, the estimated annual cost of the burden requirements is $55,370 ($62.92 per hour × 880 hours = $55,369.60). Based on this analysis, the collection of information would impose a total burden to applicants of 880 hours at a cost of $55,370.

Request for Comments:

CPSC requests that interested parties submit comments regarding this proposed information collection (see the ADDRESSES section at the beginning of this notice). Pursuant to 44 U.S.C. 3506(c)(2)(A), the Commission specifically invites comments on:

• Whether the proposed collection of information is necessary for the proper performance of CPSC's functions, including whether the information will have practical utility;

• The accuracy of CPSC's estimate of the burden of the proposed collection of information;

• Ways to enhance the quality, utility, and clarity of the information the Commission proposes to collect; and

• Ways to minimize the burden of the collection of information on respondents, including through the use of automated collection techniques when appropriate, and other forms of information technology.

Alberta E. Mills,
Secretary, Consumer Product Safety Commission.

[FR Doc. 2025-03867 Filed 3-10-25; 8:45 am]

BILLING CODE 6355-01-P